DEPARTMENT OF STATE

22 CFR Parts 22 and 42

[Public Notice 7838]

RIN 1400-AD06

Revision to the Schedule of Fees for Consular Services, Department of State and Overseas Embassies and Consulates; Correction

AGENCY: Bureau of Consular Affairs, Department of State.

ACTION: Interim Final Rule; Correction.

SUMMARY: This document contains a correction to the Schedule of Fees for Consular Services, Department of State and Overseas Embassies and Consulates published in the Federal Register on March 29, 2012 [Public Notice 7835].

DATES: Effective April 13, 2012.

FOR FURTHER INFORMATION CONTACT: Special Assistant, Office of the Comptroller, Bureau of Consular Affairs, Department of State; phone: 202-663-1576, telefax: 202-663-2526; email: fees@state.gov.

SUPPLEMENTARY INFORMATION:

Correction

The interim final rule published on March 29, 2012, 77 FR 18907-18914, is corrected as follows:

1. In the chart on pg. 18912 detailing the proposed fee changes, the total estimated change in annual fees collected amount, at the bottom of the far right column, is corrected so that the decimal places are correct. The correct figure is 94,813,970.

Dated: March 30, 2012.
Alexandra C. Gianinno,
Comptroller, Office of the Comptroller, Bureau of Consular Affairs, U.S. Department of State.

[FR Doc. 2012-8109 Filed 4-3-12; 8:45 am]

BILLING CODE 4710-06-P